DEPARTMENT OF TRANSPORTATION

Federal Transit Administration

[FTA Docket No. FTA-2015-0004]

Agency Information Collection Activity Under OMB Review

AGENCY: Federal Transit Administration, DOT.

ACTION: Notice of request for comments.

SUMMARY: The Federal Transit Administration invites public comment about its intention to request the Office of Management and Budget's (OMB) approval to renew the following information collection:

49 U.S.C. 5335(a) and (b) National Transit Database (NTD)

The information collected is necessary to determine eligibility of applicants and ensure the proper and timely expenditure of federal funds within the scope of the program. The Federal Register notice with a 60-day comment period soliciting comments for the National Transit Database was published on December 29, 2014 (Citation 79 FR 248). No comments were received from that notice.

DATES: Comments must be submitted before April 16, 2015. A comment to OMB is most effective, if OMB receives it within 30 days of publication.

FOR FURTHER INFORMATION CONTACT: Tia Swain, Office of Administration, Office of Management Planning, (202) 366-0354.

SUPPLEMENTARY INFORMATION: Title: 49 U.S.C. 5335(a) and (b) National Transit Database (NTD) (OMB Number: 2132-0008).

Abstract: This collection involves FTA's National Transit Database (NTD) program. This information collection is important because U.S.C. 5335 requires the Secretary of Transportation “maintain a reporting system, using uniform categories to accumulate public transportation financial and operating information using a uniform system of accounts.” Additionally, 49 U.S.C. 5335(b) specifies that the Secretary may award grants under FTA's Urbanized Area Formula Program or Other Than Urbanized Area Formula Program (Sections 5307 and 5311) “only if the applicant and any person that will receive benefits directly from the grant are subject to the reporting and uniform systems.” The National Transit Database is the reporting system established to meet this requirement. NTD data is used by FTA in assessing applications from transit agencies for discretionary grants and in conducting oversight reviews of grantees to ensure compliance with federal grant requirements. In addition, NTD data is used by State and local governments, as well as individual transit agencies, to conduct performance benchmarking among peer transit systems. NTD data is also frequently used by academic researchers seeking to better understand public transportation systems. NTD data are frequently cited in the proceedings of the Transportation Research Board. NTD data is also valuable to the transit agencies that are themselves reporting the data and are key components of the American Public Transportation Association's Annual Factbook and data on capital assets. Finally, time series of NTD data are frequently used by suppliers of transit equipment and services to evaluate market trends and by government at all levels to guide transit investment decisions.

Estimated Total Annual Burden: 26,000 hours.

ADDRESSES: All written comments must refer to the docket number that appears at the top of this document and be submitted to the Office of Information and Regulatory Affairs, Office of Management and Budget, 725-17th Street NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Matthew M. Crouch,
Associate Administrator for Administration.

[FR Doc. 2015-05973 Filed 3-16-15; 8:45 am]

BILLING CODE P